DEPARTMENT OF COMMERCE

Foreign-Trade Zones Board

[S-179-2021]

Foreign-Trade Zone 49—Newark, New Jersey, Application for Subzone, Valbruna Stainless, Inc., Pompton Lakes, New Jersey

An application has been submitted to the Foreign-Trade Zones (FTZ) Board by the Port Authority of New York and New Jersey, grantee of FTZ 49, requesting subzone status for the facility of Valbruna Stainless, Inc. (Valbruna), located in Pompton Lakes, New Jersey. The application was submitted pursuant to the provisions of the Foreign-Trade Zones Act, as amended (19 U.S.C. 81a-81u), and the regulations of the FTZ Board (15 CFR part 400). It was formally docketed on November 19, 2021.

The proposed subzone (8.08 acres) is located at 1000 Cannonball Road, Pompton Lakes, New Jersey. No authorization for production activity has been requested at this time. The proposed subzone would be subject to the existing activation limit of FTZ 49.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is January 5, 2022. Rebuttal comments in response to material submitted during the foregoing period may be submitted during the subsequent 15-day period to January 20, 2022.

A copy of the application will be available for public inspection in the “Online FTZ Information Section” section of the FTZ Board's website, which is accessible via www.trade.gov/ftz.

For further information, contact Christopher Kemp at Christopher.Kemp@trade.gov.

Dated: November 19, 2021.
Camile R. Evans,
Acting Executive Secretary.

[FR Doc. 2021-25769 Filed 11-24-21; 8:45 am]

BILLING CODE 3510-DS-P